DEPARTMENT OF TRANSPORTATION

Federal Highway Administration

Notice To Rescind a Notice of Intent and Draft Environmental Impact Statement: Highway 35, Between Norfolk and South Sioux City, NE

AGENCY: Federal Highway Administration (FHWA), DOT.

ACTION: Notice to rescind a Notice of Intent and Draft Environmental Impact Statement.

SUMMARY: The FHWA is issuing this notice to advise the public that we are rescinding the Notice of Intent (NOI) and Draft Environmental Impact Statement (DEIS) for improvements that were proposed for the Highway 35 Corridor from Norfolk to South Sioux City (N35) in Nebraska [DPS-35-4(119)]. The NOI was published in the Federal Register on March 4, 2002, and the DEIS availability was published in the Federal Register on January 11, 2008. This rescission is based on a lack of available funding for the full corridor proposal, which led to a reduction in scope to focus on the area of more defined need within the Norfolk area. The reduction in scope has brought the proposed action below the threshold of an EIS.

FOR FURTHER INFORMATION CONTACT: Melissa Maiefski, Program Delivery Team Lead, FHWA, Nebraska Division, 100 Centennial Mall North, Room 220, Lincoln, Nebraska 68508, Telephone: (402) 742-8473.

SUPPLEMENTARY INFORMATION: The FHWA, in cooperation with the Nebraska Department of Roads (NDOR), is rescinding the NOI and DEIS for a proposal to improve N-35 between Norfolk and South Sioux City in Madison, Stanton, Wayne, Dixon, and Dakota Counties in Nebraska. The previous proposed action, described in the 2008 DEIS, was to upgrade the existing two lane, 70 mile rural highway to a four lane divided highway on partially new alignment. The NOI is being rescinded in large part due to funding constraints, which led to a reduction of scope to focus on the more imminent N-35 needs within the Norfolk area only. The current proposed actions would improve the capacity of N-35 within Norfolk, from the junction of N-35 with US 275 to Nucor Road, and would improve the intersection of N-35 with Norfolk Avenue and Victory Road. NDOR will be holding a public meeting to solicit community input on the new proposal, which will be advertised through the local media. Given the reduction in scope and the associated potential impacts of the proposed action, FHWA intends to prepare a lower-level NEPA document to determine if the project has the potential to significantly affect the quality of the human environment. If, at a future time, FHWA determines that the proposed action is likely to have a significant impact on the environment, a new NOI to prepare an EIS will be published.

Authority: 23 U.S.C. 315; 49 CFR 1.48.

Dated: July 8, 2011.
Joseph A. Werning,
Division Administrator, Nebraska.

[FR Doc. 2011-17709 Filed 7-13-11; 8:45 am]

BILLING CODE 4910-22-P